DEPARTMENT OF ENERGY

Federal Energy Regulatory Commission

[Project No. 12662-002]

Renewable Resources, Inc.; Notice of Application Tendered for Filing With the Commission, Soliciting Additional Study Requests, and Establishing Procedual Schedule for Licensing and Deadline for Submission of Final Amendments

July 8, 2009.

Take notice that the following hydroelectric application has been filed with the Commission and is available for public inspection.

a. Type of Application: Exemption From Licensing.

b. Project No.: P-12662-002.

c. Date Filed: July 1, 2009.

d. Applicant: Renewable Resources, Inc.

e. Name of Project: Swift River Mill Hydroelectric Project.

f. Location: On the Pawcatuck River in Washington County, Rhode Island. The project would not occupy lands of the United States.

g. Filed Pursuant to: Public Utilities Regulatory Policies Act of 1978, 16 U.S.C. 2705, 2708

h. Applicant Contact: Edward Carapezza, P.O. Box 365, Hopkinton, RI 02833, (401) 207-2643

i. FERC Contact: Tom Dean, (202) 502-6041.

j. Cooperating Agencies: We are asking Federal, State, and local agencies and Indian tribes with jurisdiction and/or special expertise with respect to environmental issues to cooperate with us in the preparation of the environmental document. Agencies who would like to request cooperating status should follow the instructions for filing comments described in item l below.

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 31, 2009.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site at (http://www.ferc.gov) under the “eFiling” link.

m. This application is not ready for environmental analysis at this time.

n. Description of Project: The Swift River Mill Project would consist of: (1) The existing 10-foot-high, 112-foot-long Swift River Mill dam impounding; (2) an existing 36-acre reservoir with a normal water surface elevation of 26 feet National Geodetic Vertical Datum; (3) an existing fish ladder facility; (4) an existing 8.5-foot-wide, 40-foot-long power canal, and an existing 10-foot-wide, 40-foot-long power canal leading to; (5) an existing 16.5-foot-wide, 100-foot-long power canal connecting; (6) an existing mill building containing two new turbine generating units with a total installed capacity of 360 kilowatts (kW) discharging water to; (7) an existing 16-foot-wide, 40-foot-long tailrace; and (8) appurtenant facilities. Project power would be transmitted through a new underground 300-foot-long, 480 kilovolt transmission line.

In addition to above, the project would also consist of two new vortex water aerator turbine generating units with a combined installed capacity of 30 kW, one unit located on the west bank and one unit located on the east bank of the Pawcatuck River just downstream of the Swift River Mill dam. The project would have an average annual generation of about 2,870 megawatt-hours.

o. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Connecticut State Historic Preservation Officer (SHPO), as required by section 106, National Historic Preservation Act, and the regulations of the Advisory Council on Historic Preservation, 36 CFR 800.4.

q. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in an EA. Staff intents to give at least 30 days for entities to comment on the EA, and will take into consideration all comments received on the EA before final action is taken on the license application.

Issue Acceptance Letter or Deficiency Letter—October 2009.

Issue Scoping Document—January 2010.

Notice of application is ready for environmental analysis—February 2010.

Notice of the availability of the EA—July 2010.

Final amendments to the application must be filed with the Commission no later than 30 days from the issuance date of the notice of ready for environmental analysis.

Kimberly D. Bose,
Secretary.

[FR Doc. E9-16719 Filed 7-14-09; 8:45 am]

BILLING CODE 6717-01-P